FEDERAL COMMUNICATIONS COMMISSION

[IB Docket No. 16-185; DA 16-630 and DA 16-780]

Announcement of Rechartering and First Meeting of the World Radiocommunication Conference Advisory Committee

AGENCY: Federal Communications Commission.

ACTION: Notice.

SUMMARY: In accordance with the Federal Advisory Committee Act, the Federal Communications Commission (FCC) announces that the charter for the World Radiocommunication Conference Advisory Committee (WRCAC) has been renewed by the General Services Administration (GSA) for a two-year period. The WRCAC is a federal advisory committee under the Federal Advisory Committee Act. This notice advises interested persons that the initial meeting of the WRCAC will be held to begin preparations for the 2019 World Radiocommunication Conference.

DATES: Tuesday, August 2, 2016; 11:00 a.m.

ADDRESSES: Federal Communications Commission, 445 12th Street SW., Room TW-C305, Washington, DC 20554.

FOR FURTHER INFORMATION CONTACT: Dante Ibarra, Designated Federal Official, World Radiocommunication Conference Advisory Committee, FCC International Bureau, Global Strategy and Negotiation Division, at (202) 418-0610. Email: Dante.Ibarra@fcc.gov.

SUPPLEMENTARY INFORMATION: In accordance with the Federal Advisory Committee Act, Public Law 92-463, as amended, this notice advises interested persons that the GSA has renewed the charter of the WRCAC through April 8, 2018. Its scope of activities is to address issues contained in the agenda for the International Telecommunication Union (ITU) World Radiocommunication Conferences. The WRCAC will continue to provide to the FCC advice, data, and technical analyses, and will formulate recommendations relating to the preparation of U.S. proposals and positions for ITU World Radiocommunication Conferences, specifically the World Radiocommunication Conference that has been preliminarily scheduled for the year 2019 (WRC-19).

This notice advises interested persons of the first meeting of the WRCAC. Additional information regarding the WRC-19 and the WRCAC is available on the WRCAC's Web site, https://www.fcc.gov/wrc-19. The meeting is open to the public.

Open captioning will be provided for this event. Other reasonable accommodations for people with disabilities are available upon request. Requests for such accommodations should be submitted via email to fcc504@fcc.gov or by calling the Consumer & Governmental Affairs Bureau at (202) 418-0530 (voice), (202) 418-0432 (TTY). Such requests should include a detailed description of the accommodation needed. In addition, please include a way for the FCC to contact the requester if more information is needed to fill the request. Please allow at least five days' advance notice; last minute requests will be accepted, but may not be possible to accommodate.

The proposed agenda for the first meeting is as follows:

Agenda

First Meeting of the World Radiocommunication Conference Advisory Committee

Federal Communications Commission, 445 12th Street SW., Room TW-C305, Washington, DC 20554, August 2, 2016; 11:00 a.m.

1. Opening Remarks

2. Approval of Agenda

3. Advisory Committee Structure

4. WRC-19 Preparatory Process Timeline

5. Other Business

Federal Communications Commission.
Denise Coca,
Chief, Telecommunications and Analysis Division, International Bureau.

[FR Doc. 2016-16716 Filed 7-14-16; 8:45 am]

BILLING CODE 6712-01-P